NUCLEAR REGULATORY COMMISSION

[NRC-2011-0265]

NUREG-1556, Volume 2, Revision 1, “Consolidated Guidance About Materials Licenses Program-Specific Guidance About Industrial Radiography Licenses;” Draft Guidance for Comment

AGENCY: Nuclear Regulatory Commission.

ACTION: Notice of availability and request for comments.

SUMMARY: The U.S. Nuclear Regulatory Commission (NRC) is revising its licensing guidance for industrial radiography licensees. The NRC has issued for public comment a document entitled: NUREG-1556, Volume 2, Revision 1, “Consolidated Guidance About Materials Licenses: Program-Specific Guidance About Industrial Radiography Licenses, Draft Report for Comment.”

The document has been updated to include safety culture, security of radioactive materials, protection of sensitive information, an appendix on lay-barges and offshore radiography, and incorporated changes in regulatory policies and practices.

The NRC originally published NUREG-1556, Volume 2, “Consolidated Guidance About Materials Licenses: Program-Specific Guidance About Industrial Radiography Licenses” in August 1998. This document is intended for use by applicants, licensees, and NRC staff and will also be available to Agreement States.

DATES: Please submit comments by January 13, 2012. Comments received after this date will be considered if it is practical to do so, but the NRC is able to assure consideration only for comments received on or before this date.

ADDRESSES: Please include Docket ID NRC-2011-0265 in the subject line of your comments. For additional instructions on submitting comments and instructions on accessing documents related to this action, see “Submitting Comments and Accessing Information” in the SUPPLEMENTARY INFORMATION section of this document. You may submit comments by any one of the following methods:

• Federal Rulemaking Web Site: Go to http://www.regulations.gov and search for documents filed under Docket ID NRC-2011-0265. Address questions about NRC dockets to Carol Gallagher, telephone: (301) 492-3668; email: Carol.Gallagher@nrc.gov.

• Mail comments to: Cindy Bladey, Chief, Rules, Announcements, and Directives Branch (RADB), Office of Administration, Mail Stop: TWB-05-B01M, U.S. Nuclear Regulatory Commission, Washington, DC 20555-0001.

• Fax comments to: RADB at (301) 492-3446.

SUPPLEMENTARY INFORMATION:

Submitting Comments and Accessing Information

Comments submitted in writing or in electronic form will be posted on the NRC Web site and on the Federal rulemaking Web site, http://www.regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

You can access publicly available documents related to this document using the following methods:

• NRC's Public Document Room (PDR): The public may examine and have copied, for a fee, publicly available documents at the NRC's PDR, O1-F21, One White Flint North, 11555 Rockville Pike, Rockville, Maryland 20852.

• NRC's Agencywide Documents Access and Management System (ADAMS): Publicly available documents created or received at the NRC are available online in the NRC Library at http://www.nrc.gov/reading-rm/adams.html. From this page, the public can gain entry into ADAMS, which provides text and image files of the NRC's public documents. If you do not have access to ADAMS or if there are problems in accessing the documents located in ADAMS, contact the NRC's PDR reference staff at 1-(800) 397-4209, (301) 415-4737, or by email to pdr.resource@nrc.gov. The NUREG-1556, Volume 2, Revision 1, “Consolidated Guidance About Materials Licenses: Program-Specific Guidance About Industrial Radiography Licenses, Draft Report for Comment” is available electronically under ADAMS Accession Number ML11312A123.

• Federal Rulemaking Web Site: Public comments and supporting materials related to this notice can be found at http://www.regulations.gov by searching on Docket ID NRC-2011-0265.

FOR FURTHER INFORMATION CONTACT: Tomas Herrera, Division of Materials Safety and State Agreements, Office of Federal and State Materials and Environmental Management Programs, telephone (301) 415-7138, email: Tomas.Herrera@nrc.gov.

NRC's Public Web site: The document will also be posted on NRC's public Web Site at: (1) http://www.nrc.gov/reading-rm/doc-collections/nuregs/staff/sr1556/ on the “Consolidated guidance About Materials Licenses (NUREG-1556)” under Volume 2, Revision 1 and (2) http://www.nrc.gov/reading-rm/doc-collections/nuregs/docs4comment.html on the “Draft NUREG-Series Publications for Comment.”

Dated at Rockville, Maryland, this 10th day of November 2011.
For the Nuclear Regulatory Commission.
James Luehman,
Deputy Director, Licensing and Inspection Directorate, Division of Materials Safety and State Agreements. Office of Federal and State Materials and Environmental Management Programs.

[FR Doc. 2011-29986 Filed 11-18-11; 8:45 am]

BILLING CODE 7590-01-P